DEPARTMENT OF ENERGY

Federal Energy Regulatory Commission

Combined Notice of Filings #2

Take notice that the Commission received the following exempt wholesale generator filings:

Docket Numbers: EG19-87-000.

Applicants: AES Alamitos Energy, LLC.

Description: Self-Certification of EG of AES Alamitos Energy, LLC.

Filed Date: 3/29/19.

Accession Number: 20190329-5385.

Comments Due: 5 p.m. ET 4/19/19.

Docket Numbers: EG19-88-000.

Applicants: AES Huntington Beach Energy, LLC.

Description: Self-Certification of EG of AES Huntington Beach Energy, LLC.

Filed Date: 3/29/19.

Accession Number: 20190329-5386.

Comments Due: 5 p.m. ET 4/19/19.

Take notice that the Commission received the following electric rate filings:

Docket Numbers: ER19-1482-000.

Applicants: PacifiCorp.

Description: Tariff Cancellation: Termination of SRP Construct Agmt for Cove Fort Meter to be effective 6/9/2019.

Filed Date: 3/29/19.

Accession Number: 20190329-5215.

Comments Due: 5 p.m. ET 4/19/19.

Docket Numbers: ER19-1483-000.

Applicants: Duke Energy Ohio, Inc., Duke Energy Kentucky, Inc., PJM Interconnection, L.L.C.

Description: § 205(d) Rate Filing: DEOK submits revisions to OATT, Att. H-22A re: Depreciation Rates to be effective 1/1/2019.

Filed Date: 3/29/19.

Accession Number: 20190329-5217.

Comments Due: 5 p.m. ET 4/19/19.

Docket Numbers: ER19-1485-000.

Applicants: Southwest Power Pool, Inc.

Description: § 205(d) Rate Filing: NIMECA Formula Rate to be effective 6/1/2019.

Filed Date: 3/29/19.

Accession Number: 20190329-5236.

Comments Due: 5 p.m. ET 4/19/19.

Docket Numbers: ER19-1486-000.

Applicants: PJM Interconnection, L.L.C.

Description: § 205(d) Rate Filing: Rev. to Tariff, Reserve Market Enhancements—Req. 5/15/2019 Extended Comments to be effective 12/31/9998.

Filed Date: 3/29/19.

Accession Number: 20190329-5252.

Comments Due: 5 p.m. ET 5/15/19.

Docket Numbers: ER19-1487-000.

Applicants: Puget Sound Energy, Inc.

Description: § 205(d) Rate Filing: Powerex PTP SA 918 to be effective 4/1/2019.

Filed Date: 3/29/19.

Accession Number: 20190329-5317.

Comments Due: 5 p.m. ET 4/19/19.

Docket Numbers: ER19-1488-000.

Applicants: Southern Indiana Gas and Electric Company, Inc.

Description: Initial rate filing: Rate Schedule for Reactive Power Revenue Requirement to be effective 6/1/2019.

Filed Date: 3/29/19.

Accession Number: 20190329-5383.

Comments Due: 5 p.m. ET 4/19/19.

Docket Numbers: ER19-1489-000.

Applicants: Exelon Corporation.

Description: Petition for Limited Waiver, et al. of Exelon Corporation.

Filed Date: 3/29/19.

Accession Number: 20190329-5389.

Comments Due: 5 p.m. ET 4/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2019.
Nathaniel J. Davis, Sr.,
Deputy Secretary.

[FR Doc. 2019-06595 Filed 4-3-19; 8:45 am]

BILLING CODE 6717-01-P